DEPARTMENT OF THE INTERIOR

Bureau of Land Management

[CO-100-1610-DP]

Notice of Availability of Draft Little Snake Resource Management Plan and Environmental Impact Statement, Colorado

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (RMP/EIS) for the Little Snake Field Office and by this notice is announcing the opening of the comment period.

DATES: To assure that they will be considered, BLM must receive written comments on the Draft RMP/EIS within 90 days following the date the Environmental Protection Agency publishes their Notice of Availability in the Federal Register. The BLM will announce future meetings or hearings and any other public involvement activities at least 15 days in advance through public notices, media news releases, and/or mailings.

ADDRESSES: The Draft RMP/EIS will be posted on the Internet at http://www.co.blm.gov/lsra/rmp. You may submit comments by any of the following methods:

• E-mail: colsrmp@blm.gov.

• Fax: (970) 826-5002.

• Mail: Jeremy Casterson, BLM—Little Snake Field Office, 455 Emerson St., Craig, CO 81625.

FOR FURTHER INFORMATION CONTACT: Jeremy Casterson, Planning and Environmental Coordinator, BLM—Little Snake Field Office, 455 Emerson St., Craig, CO 81625. Phone: (970) 826-5071. E-mail: Jeremy_Casterson@blm.gov.

SUPPLEMENTARY INFORMATION: The planning area is located in Northwest Colorado in Moffat, Routt, and Rio Blanco Counties. The plan will provide a framework to guide subsequent management decisions on approximately 1.3 million acres of BLM-administered public lands and 1.1 million acres of subsurface mineral estate administered by the BLM. Little Snake Field Office is currently being managing under its 1989 RMP, which has been amended for Oil and Gas Leasing (1991), Black-Footed Ferret Reintroduction (1996) and Land Health Standards (1997).

The Little Snake Field Office has worked extensively with the community, interested and affected publics, and cooperating agencies in development of the Draft RMP/EIS. An independent local citizen-based stewardship group, the Northwest Colorado Stewardship (NWCOS), has been very engaged in the RMP revision. NWCOS has provided input on issues that will be addressed in the planning process, the range of alternatives and the impact analysis. Cooperating agencies include Moffat County, Colorado Department of Natural Resources, U.S. Fish and Wildlife Service Division of Ecological Services, the City of Steamboat Springs and the Juniper Water Conservancy District.

The Draft RMP/EIS addresses many issues important to the area, including energy development, special designations, transportation and travel management, wildlife habitat and socio-economic values. Four alternatives were analyzed in the Draft RMP/EIS.

Alternative A would maintain present uses by continuing present management direction and activities. Mineral and energy development and unrestricted off-highway vehicle (OHV) travel would be allowed throughout a majority of the planning area.

Alternative B would allow the greatest extent of resource use within the planning area, while maintaining the basic protection needed to sustain resources. Under this alternative, constraints on commodity production for the protection of sensitive resources would be the least restrictive possible within the limits defined by law, regulation and BLM policy.

Alternative C, the Preferred Alternative, would emphasize multiple resource use in the planning area by protecting sensitive resources and applying the most current information that allows BLM to set priorities for flexible, proactive management of public lands (adaptive management). Commodity production would be balanced with providing protection for wildlife and vegetation.

Alternative D would allow the greatest extent of resource protection within the planning area, while still allowing resource uses. Commodity production would be constrained to protect natural resource values or to accelerate improvement in their condition.

In the preferred alternative, Alternative C, Irish Canyon is designated as an Area of Critical Environmental Concern (ACEC). The ACEC objective would be to protect sensitive plants, remnant plant communities, cultural and geologic values, and scenic quality. The area would be closed to oil and gas leasing, limited to designated routes for off-highway vehicles, withdrawn from locatable mineral entry, managed as Visual Resource Management Class II, and Right-of-way exclusion area unless associated with valid existing rights.

ACEC proposals which were determined to meet the relevance and importance criteria but not designated ACECs in the preferred alternative because they were deemed not to warrant special management attention include Lookout Mountain, Limestone Ridge, Cross Mountain Canyon, White-tailed Prairie Dog habitat, and eleven areas proposed to protect sensitive plants and plant communities: Cold Desert Shrublands occurrences, Gibben's Beardtongue occurrences, Bull Canyon, G Gap, Little Juniper Canyon, the Bassett Spring, No Name Spring, Pot Creek, Whiskey Springs, Willow Spring, and Deception Creek.

All submissions will be available for public inspection in their entirety. Copies of the Little Snake Draft RMP/EIS are available in the Little Snake Field Office at the above address during regular business hours 7:45 a.m. to 4:30 p.m., Monday through Friday, except holidays.

Dated: May 26, 2006.
John E. Husband,
Field Manager.

Editorial Note: This document was received at the Office of the Federal Register on February 6, 2007.

[FR Doc. E7-2247 Filed 2-8-07; 8:45 am]

BILLING CODE 4310-$$-P